DEPARTMENT OF TRANSPORTATION

Federal Aviation Administration

14 CFR Part 71

[Docket No. FAA-2005-23271; Airspace Docket No. 05-AWP-15]

RIN 2120-AA66

Establishment of Class E Enroute Domestic Airspace Area, Vandenberg AFB, CA

AGENCY: Federal Aviation Administration (FAA), DOT.

ACTION: Direct final rule, request for comments; correction.

SUMMARY: This action corrects the heading of the legal description and changes the effective date of a direct final rule published in the Federal Register on March 7, 2006 (71 FR 11297), Airspace Docket No. 05-AWP-15. In that rule, the heading of the legal description reads “Lompoc, CA, Vandenberg AFB [Established]” and will change to “AWP CA E6 Lompoc, CA [New]”. Also the effective date was inadvertently published as July 6, 2006. This action changes the effective date to June 8, 2006.

DATES: Effective Date: 0901 UTC [March 24, 2006.]

FOR FURTHER INFORMATION CONTACT: Francie Hope, Western Terminal Operations Airspace Specialist, AWP-520.3, Federal Aviation Administration, 15000 Aviation Boulevard, Lawndale, California 90261, telephone (310) 725-6502.

SUPPLEMENTARY INFORMATION:

History

On March 7, 2006, a direct final rule was published in the Federal Register (71 FR 11297), Airspace Docket No. 05-AWP-15. This rule established a Class E enroute domestic airspace area, Vandenberg AFB, CA, to replace existing Class G uncontrolled airspace. In that rule, the heading of the legal description reads “Lompoc, CA, Vandenberg AFB [Established]” and will change to “AWP CA E6 Lompoc, CA [New]”. Also the effective date was inadvertently published as July 6, 2006. This action changes the effective date to June 8, 2006.

Correction to Final Rule

Accordingly, pursuant to the authority delegated to me, the heading of the legal description for Airspace Docket No. 05-AWP-15, as published in the Federal Register on March 7, 2006 (71 FR 11297), is hereby changed to “AWP CA E6 Lompoc, CA [New]”, and the effective date is changed from July 6, 2006, to June 8, 2006.

Authority: 49 U.S.C. 106(g), 40103, 40113, 40120; E.O. 10854, 24 FR 9565, 3 CFR, 1959-1963 Comp., p. 389.

Issued in Los Angeles, California, on March 14, 2006.
Leonard A. Mobley,
Manager, Airspace Branch AWP-520, Western Terminal Operations.

[FR Doc. 06-2879 Filed 3-23-06; 8:45 am]

BILLING CODE 4910-13-M